DEPARTMENT OF ENERGY

Federal Energy Regulatory Commission

[Docket Nos. RP00-497-001 and RP01-47-003]

Viking Gas Transmission Company; Notice of Compliance Filing

July 24, 2002.

Take notice that on July 17, 2002, Viking Gas Transmission Company (Viking) tendered for filing as part of its FERC Gas Tariff, First Revised Volume No. 1 the tariff sheets listed on Appendix A to the filing, to become effective September 15, 2002.

Viking states that the purpose of this filing is to comply with the Order on Compliance with Order Nos. 637, 587-G and 587-L, that the Commission issued on June 17, 2002 in Docket No. RP00-497-000 (“June 17, 2002 Order”).

Viking states that copies of the filing have been mailed to all of its jurisdictional customers, to affected state regulatory commissions and all parties to this proceeding.

Any person desiring to protest said filing should file a protest with the Federal Energy Regulatory Commission, 888 First Street, N.E., Washington, D.C. 20426, in accordance with Section 385.211 of the Commission's Rules and Regulations. All such protests must be filed on or before July 31, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-19214 Filed 7-29-02; 8:45 am]

BILLING CODE 6717-01-P